DEPARTMENT OF HEALTH AND HUMAN SERVICES

National Institutes of Health

National Institute of Diabetes and Digestive and Kidney Diseases; Amended Notice of Meeting

Notice is hereby given of a change in the meeting of the National Commission on Digestive Diseases, June 18, 2007, 9 a.m. to June 19, 2007, 12 p.m., Sheraton Crystal City, 1800 Jefferson Davis Highway (Rt. 1), Grand Ballroom C, Arlington, VA 22202 which was published in the Federal Register on March 28, 2007, 72 FR 14597.

To elaborate on times and dates of the meeting: June 18, 2007 from 9 a.m. until 5 p.m. and on June 19, 2007 from 9 a.m. until 12 noon. The meeting is open to the public.

Dated: April 11, 2007.
Jennifer Spaeth,
Director, Office of Federal Advisory Committee Policy.

[FR Doc. 07-1898 Filed 4-17-07; 8:45 am]

BILLING CODE 4140-01-M